DEPARTMENT OF COMMERCE

International Trade Administration

[A-821-833]

Oil Country Tubular Goods From the Russian Federation: Preliminary Affirmative Determination of Sales at Less Than Fair Value, Preliminary Negative Critical Circumstances Determination, Postponement of Final Determination, and Extension of Provisional Measures

AGENCY: Enforcement and Compliance, International Trade Administration, Department of Commerce.

SUMMARY: The Department of Commerce (Commerce) preliminarily determines that oil country tubular goods (OCTG) from the Russian Federation (Russia) are being, or are likely to be, sold in the United States at less than fair value (LTFV). The period of investigation (POI) is October 1, 2020, through September 30, 2021. Interested parties are invited to comment on this preliminary determination.

DATES: Applicable May 11, 2022.

FOR FURTHER INFORMATION CONTACT: George McMahon or Mike Heaney, AD/CVD Operations, Office VI, Enforcement and Compliance, International Trade Administration, U.S. Department of Commerce, 1401 Constitution Avenue NW, Washington, DC 20230; telephone: (202) 482-1167 or (202) 482-4475, respectively.

SUPPLEMENTARY INFORMATION:

Background

This preliminary determination is made in accordance with section 733(b) of the Tariff Act of 1930, as amended (the Act). Commerce published the notice of initiation of this LTFV investigation on November 1, 2021.¹ On February 17, 2022, Commerce postponed the preliminary determination of this investigation until May 4, 2022.²

¹ See Oil Country Tubular Goods from Argentina, Mexico, and the Russian Federation: Initiation of Less-Than-Fair-Value Investigations, 86 FR 60205 (November 1, 2021) (Initiation Notice).

² See Oil Country Tubular Goods from Argentina, Mexico, and the Russian Federation: Postponement of Preliminary Determinations in the Less-Than-Fair-Value Investigations: Postponement of Preliminary Determinations in the Less-Than-Fair-Value Investigations, 87 FR 9034 (February 17, 2022).

For a complete description of the events that followed the initiation of this investigation, see the Preliminary Decision Memorandum.³ A list of sections in the Preliminary Decision Memorandum is included in Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Determination in the Less-Than-Fair-Value Investigation of Oil Country Tubular Goods from the Russian Federation,” dated concurrently with, and hereby adopted by this notice (Preliminary Decision Memorandum).

Scope of the Investigation

The products covered by this investigation are OCTG from Russia. For a complete description of the scope of this investigation, see Appendix I.

Scope Comments

In accordance with the preamble to Commerce's regulations,⁴ in the Initiation Notice Commerce set aside a period of time for parties to raise issues regarding product coverage (i.e., scope).⁵ Certain interested parties commented on the scope of the investigation as it appeared in the Initiation Notice. For a summary of the product coverage comments and rebuttal responses submitted to the record for this investigation, and accompanying discussion and analysis of all comments timely received, see the Preliminary Scope Decision Memorandum.⁶ As discussed in the Preliminary Scope Decision Memorandum, Commerce preliminarily modified the scope language as it appeared in the Initiation Notice.

⁴ See Antidumping Duties; Countervailing Duties, Final Rule, 62 FR 27296, 27323 (May 19, 1997).

⁵ See Initiation Notice, 86 FR at 60205-60206.

⁶ See Memorandum, “Antidumping Duty Investigations of Oil Country Tubular Goods from Argentina, Mexico, and the Russian Federation and Countervailing Duty Investigations of Oil Country Tubular Goods from the Republic of Korea, and the Russian Federation: Preliminary Scope Decision Memorandum,” dated March 7, 2022 (Preliminary Scope Decision Memorandum).

In the Preliminary Scope Decision Memorandum, Commerce established the deadline for parties to submit scope case briefs.⁷ Commerce did not receive any comments from interested parties regarding the scope as stated in the Preliminary Scope Decision Memorandum prior to the deadline. As explained in the Preliminary Scope Decision Memorandum, there will be no further opportunity for comments on scope-related issues.⁸

⁷ Case briefs, other written comments, and rebuttal briefs submitted by in response to this preliminary LTFV determination should not include scope-related issues. See Preliminary Scope Decision Memorandum, and “Public Comment” section of this notice.

⁸ See Preliminary Scope Decision Memorandum at 4.

Methodology

Commerce is conducting this investigation in accordance with section 731 of the Act. Commerce calculated export prices in accordance with section 772(a) of the Act and constructed export prices in accordance with section 772(b) of the Act. Normal value (NV) is calculated in accordance with section 773 of the Act. For a full description of the methodology underlying the preliminary determination, see the Preliminary Decision Memorandum.

All-Others Rate

Sections 733(d)(1)(ii) and 735(c)(5)(A) of the Act provide that in the preliminary determination, Commerce shall determine an estimated all-others rate for all exporters and producers not individually examined. This rate shall be equal to the weighted average of the estimated weighted-average dumping margins established for exporters and producers individually investigated, excluding any zero and de minimis dumping margins, and any dumping margins determined entirely under section 776 of the Act.

In this investigation, Commerce calculated estimated weighted-average dumping margins that are above de minimis for the mandatory respondents, JSC Vyksa Steel Works (VSW) and Volzhsky Pipe Plant, Joint Stock Company (VTZ). Commerce calculated the all-others rate by weight-averaging the estimated weighted-average dumping margins that it calculated for the individually examined respondents. Commerce weight-averaged these dumping margins using the publicly ranged total quantities of each respondent's sales of subject merchandise to the United States during the POI.⁹

⁹ With two respondents under examination, Commerce normally calculates (A) a weighted-average of the estimated weighted-average dumping margins calculated for the examined respondents; (B) a simple average of the estimated weighted-average dumping margins calculated for the examined respondents; and (C) a weighted-average of the estimated weighted-average dumping margins calculated for the examined respondents using each company's publicly ranged U.S. sale quantities for the merchandise under consideration. Commerce then compares (B) and (C) to (A) and selects the rate closer to (A) as the most appropriate rate for all other producers and exporters. See Ball Bearings and Parts Thereof from France, Germany, Italy, Japan, and the United Kingdom: Final Results of Antidumping Duty Administrative Reviews, Final Results of Changed-Circumstances Review, and Revocation of an Order in Part, 75 FR 53661, 53663 (September 1, 2010). As complete publicly ranged sales data were available, Commerce based the all-others rate on the publicly ranged sales data of the mandatory respondents. For a complete analysis of the data, please see the All-Others Rate Calculation Memorandum.

Preliminary Negative Determination of Critical Circumstances

In accordance with section 733(e) of the Act and 19 CFR 351.206, Commerce preliminarily determines that critical circumstances do not exist for all companies in Russia.¹⁰ For a full description of the methodology and results of Commerce's critical circumstances analysis, see the Preliminary Decision Memorandum.

¹⁰ See Petitioners' Letter, “Oil Country Tubular Goods from Russia: Allegation of the Existence of Critical Circumstances,” dated March 16, 2022.

Preliminary Determination

Commerce preliminarily determines that the following estimated weighted-average dumping margins exist in this investigation:

Exporter/producer | Estimated weighted-average dumping margin (percent) | Cash deposit rate (adjusted for subsidy offset(s)) (percent) ¹¹
JSC Vyksa Steel Works | 11.82 | 11.35
Volzhsky Pipe Plant, Joint Stock Company/Public Joint-Stock Company Trubnaya Metallurgicheskaya Kompaniya/Sinarsky Pipe Plant, Joint Stock Company/Seversky Pipe Plant, Joint Stock Company/Taganrog Metallurgical Plant, Joint Stock Company/Pervouralsk Pipe Plant, Joint Stock Company/Chelyabinsk Pipe Plant, Joint Stock Company/Orsky Machine Building Plant, Joint Stock Company | 121.11 | 121.11
All Others | 70.49 | 70.27

Suspension of Liquidation

¹¹ See Memoranda, “Less-Than-Fair-Value Investigation of Oil Country Tubular Goods from the Russian Federation: Preliminary Determination Analysis Memorandum for JSC Vyksa Steel Works,” and “Less-Than-Fair-Value Investigation of Oil Country Tubular Goods from the Russian Federation: Preliminary Determination Analysis Memorandum for Volzhsky Pipe Plant,” dated concurrently with this memorandum; and Memorandum, “Less-Than-Fair-Value Investigation of Oil Country Tubular Goods from the Russian Federation: Preliminary Determination Calculation for the All-Others,” dated concurrently with this memorandum (All-Others Rate Calculation Memorandum).

In accordance with section 733(d)(2) of the Act, Commerce will direct U.S. Customs and Border Protection (CBP) to suspend liquidation of all entries of OCTG from Russia, as described in Appendix I, entered, or withdrawn from warehouse, for consumption on or after the date of publication of this notice in the Federal Register.

Further, pursuant to section 733(d)(1)(B) of the Act and 19 CFR 351.205(d), Commerce will instruct CBP to require a cash deposit equal to the estimated weighted-average dumping margin or the estimated all-others rate, as follows: (1) The cash deposit rate for each of the respondents listed in the table above is the company-specific cash deposit rate listed for the respondent in the table; (2) if the exporter is not a respondent listed in the table above, but the producer is, then the cash deposit rate is the company-specific cash deposit rate listed for the producer of the subject merchandise in the table above; and (3) the cash deposit rate for all other producers and exporters is the all-others cash deposit rate listed in the table above.

Commerce normally adjusts cash deposits for estimated antidumping duties by the amount of export subsidies countervailed in a companion countervailing duty (CVD) investigation when CVD provisional measures are in effect. Accordingly, where Commerce made a preliminary affirmative determination of countervailable export subsidies in the companion CVD investigation, we offset the estimated weighted-average dumping margins listed in the table above by the appropriate CVD rates to determine the cash deposit rates. Any such adjusted cash deposit rate may be found in the table in the “Preliminary Determination” section above.

Should provisional measures in the companion CVD investigation expire prior to the expiration of provisional measures in this LTFV investigation, Commerce will direct CBP to begin collecting estimated antidumping duty cash deposits unadjusted for countervailed export subsidies at the time that the provisional CVD measures expired. These suspension of liquidation instructions will remain in effect until further notice.

Disclosure

Commerce intends to disclose its preliminary calculations and related analysis to interested parties in this preliminary determination within five days of any public announcement of the preliminary determination or, if there is no public announcement, within five days of the date of publication of this notice in the Federal Register in accordance with 19 CFR 351.224(b).

Verification

As provided in section 782(i)(1) of the Act, Commerce intends to verify the information relied upon in making its final determination.¹²

¹² See Commerce's Letter to OMK/VSW, “Less-Than-Fair-Value Investigation of Oil Country Tubular Goods from Russia: Notification of Intent to Conduct Virtual Verification,” dated March 16, 2022; see also Commerce's Letter to TMK/VTZ, “Less-Than-Fair-Value Investigation of Oil Country Tubular Goods from Russia: Notification of Intent to Conduct Virtual Verification,” dated March 16, 2022.

Public Comment

Case briefs or other written comments on non-scope issues may be submitted to the Assistant Secretary for Enforcement and Compliance.¹³ Interested parties will be notified of the timeline for the submission of such case briefs and written comments at a later date. Rebuttal briefs, limited to issues raised in case briefs, may be submitted no later than seven days after the deadline date for case briefs.¹⁴ Pursuant to 19 CFR 351.309(c)(2) and (d)(2), parties who submit case briefs or rebuttal briefs in this investigation are encouraged to submit with each argument: (1) A statement of the issue; (2) a brief summary of the argument; and (3) a table of authorities. Commerce has modified certain of its requirements for serving documents containing business proprietary information until further notice.¹⁵

¹³ Case briefs, other written comments, and rebuttal briefs submitted by parties in response to this preliminary LTFV determination should not include scope-related issues. The scope case briefs deadline expired on April 13, 2022. See Preliminary Scope Decision Memorandum at 3-4; see also Oil Country Tubular Goods from the Republic of Korea: Preliminary Negative Countervailing Duty Determination and Alignment of Final Determination With Final Antidumping Duty Determination, 87 FR 14248 (March 14, 2022), and Oil Country Tubular Goods from the Russian Federation: Preliminary Affirmative Countervailing Duty Determination, Preliminary Negative Critical Circumstances Determination, and Alignment of Final Determination With Final Antidumping Duty Determination, 87 FR 14249 (March 14, 2022).

¹⁴ See 19 CFR 351.309; see also 19 CFR 351.303 (for general filing requirements).

¹⁵ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests for a hearing should contain: (1) The requesting party's name, address, and telephone number; (2) the number of individuals from the requesting party that will attend the hearing, including whether any individuals are foreign nationals; and (3) a list of the issues the party intends to discuss at the hearing. If a request for a hearing is made, Commerce intends to hold the hearing at a time and date to be determined. Parties should confirm by telephone the date, time, and location of the hearing two days before the scheduled date.

Postponement of Final Determination and Extension of Provisional Measures

Section 735(a)(2) of the Act provides that a final determination may be postponed until not later than 135 days after the date of the publication of the preliminary determination in the Federal Register if, in the event of an affirmative preliminary determination, a request for such postponement is made by exporters who account for a significant proportion of exports of the subject merchandise, or in the event of a negative preliminary determination, a request for such postponement is made by the petitioner. Section 351.210(e)(2) of Commerce's regulations requires that a request by exporters for postponement of the final determination be accompanied by a request for extension of provisional measures from a four-month period to a period not more than six months in duration.

On April 14, 2022, pursuant to 19 CFR 351.210(e), VSW and VTZ requested that, contingent upon an affirmative preliminary determination of sales at LTFV, Commerce postpone the final determination in this investigation up to 135 days after publication of this notice and that provisional measures be extended to a period not to exceed six months.¹⁶

¹⁶ See VSW's Letter, “Oil Country Tubular Goods from the Russian Federation: Request to Extend the Deadline for the Final Determination and Provisional Measures,” dated April 14, 2022; see also VTZ's Letter, “Antidumping Investigation of Oil Country Tubular Goods from Russia—Request for Extension of Final Determination,” dated April 14, 2022.

In accordance with section 735(a)(2)(A) of the Act and 19 CFR 351.210(b)(2)(ii), because: (1) The preliminary determination is affirmative; (2) the requesting exporters account for a significant proportion of exports of the subject merchandise; ¹⁷ and (3) no compelling reasons for denial exist, Commerce is postponing the final determination and extending the provisional measures from a four-month period to a period not greater than six months. Accordingly, Commerce will make its final determination no later than 135 days after the date of publication of this preliminary determination in the Federal Register, pursuant to section 735(a)(2) of the Act.¹⁸

¹⁷ See Memorandum, “Less-Than-Fair-Value Investigation of Oil Country Tubular Goods from Russia: Respondent Selection,” dated November 17, 2021.

¹⁸ See also 19 CFR 351.210(e).

International Trade Commission Notification

In accordance with section 733(f) of the Act, Commerce will notify the International Trade Commission (ITC) of its preliminary determination. If Commerce's final determination is affirmative, then the ITC will determine before the later of 120 days after the date of this preliminary determination or 45 days after the final determination whether imports of OCTG from Russia are materially injuring, or threaten material injury to, the U.S. industry.

Notification to Interested Parties

This preliminary determination is issued and published in accordance with sections 733(f) and 777(i)(1) of the Act, and 19 CFR 351.205(c).

Dated: May 4, 2022.
Lisa W. Wang,
Assistant Secretary for Enforcement and Compliance.

Appendix I—Scope of the Investigation

The merchandise covered by this investigation is certain OCTG, which are hollow steel products of circular cross-section, including oil well casing and tubing, of iron (other than case iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of this investigation also covers OCTG coupling stock.

Subject merchandise includes material matching the above description that has been finished, packaged, or otherwise processed in a third country, including by performing any heat treatment, cutting, upsetting, threading, coupling, or any other finishing, packaging, or processing that would not otherwise remove the merchandise from the scope of the investigation if performed in the country of manufacture of the OCTG.

Excluded from the scope of the investigation are: Casing, tubing, or coupling stock containing 10.5 percent or more by weight of chromium; drill pipe; unattached couplings; and unattached thread protectors.

The merchandise subject to this investigation is currently classified in the Harmonized Tariff Schedule of the United States (HTSUS) under item numbers: 7304.29.1010, 7304.29.1020, 7304.29.1030, 7304.29.1040, 7304.29.1050, 7304.29.1060, 7304.29.1080, 7304.29.2010, 7304.29.2020, 7304.29.2030, 7304.29.2040, 7304.29.2050, 7304.29.2060, 7304.29.2080, 7304.29.3110, 7304.29.3120, 7304.29.3130, 7304.29.3140, 7304.29.3150, 7304.29.3160, 7304.29.3180, 7304.29.4110, 7304.29.4120, 7304.29.4130, 7304.29.4140, 7304.29.4150, 7304.29.4160, 7304.29.4180, 7304.29.5015, 7304.29.5030, 7304.29.5045, 7304.29.5060, 7304.29.5075, 7304.29.6115, 7304.29.6130, 7304.29.6145, 7304.29.6160, 7304.29.6175, 7305.20.2000, 7305.20.4000, 7305.20.6000, 7305.20.8000, 7306.29.1030, 7306.29.1090, 7306.29.2000, 7306.29.3100, 7306.29.4100, 7306.29.6010, 7306.29.6050, 7306.29.8110, and 7306.29.8150.

The merchandise subject to this investigation may also enter under the following HTSUS item numbers: 7304.39.0024, 7304.39.0028, 7304.39.0032, 7304.39.0036, 7304.39.0040, 7304.39.0044, 7304.39.0048, 7304.39.0052, 7304.39.0056, 7304.39.0062, 7304.39.0068, 7304.39.0072, 7304.39.0076, 7304.39.0080, 7304.59.6000, 7304.59.8015, 7304.59.8020, 7304.59.8025, 7304.59.8030, 7304.59.8035, 7304.59.8040, 7304.59.8045, 7304.59.8050, 7304.59.8055, 7304.59.8060, 7304.59.8065, 7304.59.8070, 7304.59.8080, 7305.31.4000, 7305.31.6090, 7306.30.5055, 7306.30.5090, 7306.50.5050, and 7306.50.5070.

The HTSUS subheadings and specifications above are provided for convenience and customs purposes only. The written description of the scope of this investigation is dispositive.

Appendix II—List of Topics Discussed in the Preliminary Decision Memorandum

I. Summary

II. Background

III. Period of Investigation

IV. Scope of the Investigation

V. Affiliation/Single Entity

VI. Discussion of the Methodology

VII. Preliminary Negative Determination of Critical Circumstances

VIII. Currency Conversion

IX. Adjustments to Cash Deposit Rates for Export Subsidies in Companion CVD Investigation

X. Recommendation

[FR Doc. 2022-10051 Filed 5-10-22; 8:45 am]

BILLING CODE 3510-DS-P